DEPARTMENT OF HEALTH AND HUMAN SERVICES

Centers for Disease Control and Prevention

Disease, Disability, and Injury Prevention and Control

Special Emphasis Panels (SEP): Reducing Racial and Ethnic Disparities in Childhood Immunization, RFA IP 05-087; Influenza Vaccination of Healthcare Workers in Hospitals, RFA IP 05-089; Expanding Utilization of Pro-Active Pharmacist Pneumococcal Vaccination Programs, RFA IP 05-092; and CDC Disparities in Elderly Pneumococcal Vaccination, RFA IP 05-093.

In accordance with Section 10(a)(2) of the Federal Advisory Committee Act (Pub. L. 92-463), the Centers for Disease Control and Prevention (CDC) announces the following meeting:

Name: Disease, Disability, and Injury Prevention and Control Special Emphasis Panel (SEP): Reducing Racial and Ethnic Disparities in Childhood Immunization, RFA IP 05-087; Influenza Vaccination of Healthcare Workers in Hospitals, RFA IP 05-089; Expanding Utilization of Pro-Active Pharmacist Pneumococcal Vaccination Programs, RFA IP 05-092; and CDC Disparities in Elderly Pneumococcal Vaccination, RFA IP 05-093.

Times and Dates: 8 a.m.-5 p.m., August 9, 2005 (Closed).

Place: Renaissance Concourse Hotel, One Hartsfield Centre Parkway, Atlanta, GA 30354, Telephone Number (404) 209-9999.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to: Reducing Racial and Ethnic Disparities in Childhood Immunization, RFA IP 05-087; Influenza Vaccination of Healthcare Workers in Hospitals, RFA IP 05-089; Expanding Utilization of Pro-Active Pharmacist Pneumococcal Vaccination Programs, RFA IP 05-092; and CDC Disparities in Elderly Pneumococcal Vaccination, RFA IP 05-093.

Contact Person for More Information: H. Mac Stiles, PhD, D.D.S, M.P.H., Scientific Review Administrator, 24 Executive Park, NE., Mailstop E74, Atlanta, GA 30333, Telephone (404) 498-2530.

The Director, Management Analysis and Services Office, has been delegated the authority to sign Federal Register notices pertaining to announcements of meetings and other committee management activities, for both CDC and the Agency for Toxic Substances and Disease Registry.

Dated: July 19, 2005.
Alvin Hall,
Director, Management Analysis and Services Office, Centers for Disease Control and Prevention.

[FR Doc. 05-14578 Filed 7-22-05; 8:45 am]

BILLING CODE 4163-18-P